DEPARTMENT OF ENERGY

10 CFR Parts 429 and 431

[Docket No. EERE-2013-BT-TP-0055]

RIN 1905-AD50

Energy Conservation Program: Test Procedure for Pumps; Correction

AGENCY: Office of Energy Efficiency and Renewable Energy, Department of Energy.

ACTION: Final rule; correction.

SUMMARY: On January 25, 2016, the U.S. Department of Energy (DOE) published a final rule amending the test procedures for pumps. This correction addresses a technical error in that final rule.

DATES: Effective: March 23, 2016.

FOR FURTHER INFORMATION CONTACT: Ms. Ashley Armstrong, U.S. Department of Energy, Office of Energy Efficiency and Renewable Energy, Building Technologies Office, EE-5B, 1000 Independence Avenue SW., Washington, DC 20585-0121. Telephone: (202) 586-6590. Email: pumps@ee.doe.gov.

Ms. Jennifer Tiedeman, U.S. Department of Energy, Office of the General Counsel, GC-33, 1000 Independence Avenue SW., Washington, DC 20585-0121. Telephone: (202) 287-6111. Email: Jennifer.Tiedeman@hq.doe.gov.

SUPPLEMENTARY INFORMATION: The U.S. Department of Energy (DOE) published a final rule in the Federal Register on January 25, 2016 (“the January 2016 final rule”) amending the test procedure for pumps. (81 FR 4085.) As part of that final rule, DOE amended 10 CFR 429.134 to add a paragraph (h), which addresses product-specific enforcement provisions related to pumps. This correction addresses the placement of those provisions under 10 CFR 429.134 at paragraph (h). At the time of publication of the January 2015 final rule, 10 CFR 429.134(h) already existed. In order to remedy this error, DOE is issuing this final rule correction to move these provisions, verbatim, to 10 CFR 429.134(i).

Correction

In final rule FR Doc. 2016-00039, published in the issue of Monday, January 25, 2016 (81 FR 4085), on page 4145, in the second and third columns, amendatory instruction 10 is corrected to read as follows:

10. Section 429.134 is amended by adding paragraph (i) to read as follows:

§ 429.134 Product-specific enforcement provisions.

* * * * *

(i) Pumps. (1) The volume rate of flow (flow rate) at BEP and nominal speed of rotation of each tested unit of the basic model will be measured pursuant to the test requirements of § 431.464 of this chapter, where the value of volume rate of flow (flow rate) at BEP and nominal speed of rotation certified by the manufacturer will be treated as the expected BEP flow rate. The results of the measurement(s) will be compared to the value of volume rate of flow (flow rate) at BEP and nominal speed of rotation certified by the manufacturer. The certified volume rate of flow (flow rate) at BEP and nominal speed of rotation will be considered valid only if the measurement(s) (either the measured volume rate of flow (flow rate) at BEP and nominal speed of rotation for a single unit sample or the average of the measured flow rates for a multiple unit sample) is within five percent of the certified volume rate of flow (flow rate) at BEP and nominal speed of rotation.

(i) If the representative value of volume rate of flow (flow rate) at BEP and nominal speed of rotation is found to be valid, the measured volume rate of flow (flow rate) at BEP and nominal speed of rotation will be used in subsequent calculations of constant load pump energy rating (PERCL) and constant load pump energy index (PEICL) or variable load pump energy rating (PERVL) and variable load pump energy index (PEIVL) for that basic model.

(ii) If the representative value of volume rate of flow (flow rate) at BEP and nominal speed of rotation is found to be invalid, the mean of all the measured volume rate of flow (flow rate) at BEP and nominal speed of rotation values determined from the tested unit(s) will serve as the new expected BEP flow rate and the unit(s) will be retested until such time as the measured rate of flow (flow rate) at BEP and nominal speed of rotation is within 5 percent of the expected BEP flow rate.

(2) DOE will test each pump unit according to the test method specified by the manufacturer in the certification report submitted pursuant to § 429.59(b).

Issued in Washington, DC, on March 15, 2016.
Kathleen Hogan,
Deputy Assistant Secretary for Energy Efficiency, Energy Efficiency and Renewable Energy.

[FR Doc. 2016-06580 Filed 3-22-16; 8:45 am]

BILLING CODE 6450-01-P